NUCLEAR REGULATORY COMMISSION

Draft Regulatory Guide; Issuance, Availability

The Nuclear Regulatory Commission has issued for public comment drafts of two new guides in its Regulatory Guide Series. Regulatory Guides are developed to describe and make available to the public such information as methods acceptable to the NRC staff for implementing specific parts of the NRC's regulations, techniques used by the staff in evaluating specific problems or postulated accidents, and data needed by the staff in its review of applications for permits and licenses.

The draft guides are temporarily identified by their task numbers, DG-1114 and DG-1115, which should be mentioned in all correspondence concerning these draft guides. Draft Regulatory Guide DG-1114, “Control Room Habitability at Light-Water Nuclear Power Reactors,” is being developed to provide guidance and criteria acceptable to the NRC staff for implementing the NRC's regulations regarding control room habitability.

Draft Regulatory Guide DG-1115, “Demonstrating Control Room Envelope Integrity at Nuclear Power Reactors,” is being developed to provide guidance acceptable to the NRC staff for performing periodic verification of inleakage into the control room. These inleakage values are used to assure that the control room will be habitable during normal and accident conditions.

These draft guides have not received complete staff approval and do not represent official NRC staff positions.

Comments may be accompanied by relevant information or supporting data. Written comments may be submitted by mail to the Rules and Directives Branch, Office of Administration, U.S. Nuclear Regulatory Commission, Washington, DC 20555; or they may be hand-delivered to the Rules and Directives Branch, ADM, at 11555 Rockville Pike, Rockville, MD. Copies of comments received may be examined at the NRC Public Document Room, 11555 Rockville Pike, Rockville, MD. Comments will be most helpful if received by June 28, 2002.

You may also provide comments via the NRC's interactive rulemaking Web site through the NRC home page, http://www.nrc.gov. This site provides the ability to upload comments as files (any format) if your web browser supports that function. For information about the interactive rulemaking Web site, contact Ms. Carol Gallagher, (301) 415-5905; e-mail CAG@NRC.GOV. For information about Draft Regulatory Guide DG-1114 and the related documents, contact Mr. W.M. Blumberg at (301)415-1083, e-mail WMB1@NRC.GOV; for information about Draft Regulatory Guide DG-1115 and the related documents, contact Mr. S.F. LaVie at (301)415-1081, e-mail SFL@NRC.GOV.

Although a time limit is given for comments on these draft guides, comments and suggestions in connection with items for inclusion in guides currently being developed or improvements in all published guides are encouraged at any time.

Regulatory guides are available for inspection at the NRC's Public Document Room, 11555 Rockville Pike, Rockville, MD; the PDR's mailing address is USNRC PDR, Washington, DC 20555; telephone (301)415-4737 or (800)397-4205; fax (301)415-3548; e-mail PDR@NRC.GOV. Requests for single copies of draft or final guides (which may be reproduced) or for placement on an automatic distribution list for single copies of future draft guides in specific divisions should be made in writing to the U.S. Nuclear Regulatory Commission, Washington, DC 20555, Attention: Reproduction and Distribution Services Section; or by e-mail to DISTRIBUTION@NRC.GOV; or by fax to (301)415-2289. Telephone requests cannot be accommodated. Regulatory guides are not copyrighted, and NRC approval is not required to reproduce them. (5 U.S.C. 552(a))

Dated at Rockville, Maryland, this 20th day of March 2002.
For the Nuclear Regulatory Commission.
Mabel F. Lee,
Director, Program Management, Policy Development and Analysis Staff, Office of Nuclear Regulatory Research.

[FR Doc. 02-7501 Filed 3-27-02; 8:45 am]

BILLING CODE 7590-01-P